DEPARTMENT OF THE INTERIOR

Fish and Wildlife Service

[FWS-R8-ES-2017-N050; FF08ESMF00-FXES11140800000-178]

Proposed Habitat Conservation Plan for South Sacramento County, California; Joint Draft Environmental Impact Statement/Environmental Impact Report

AGENCY: Fish and Wildlife Service, Interior.

ACTION: Notice of availability; receipt of permit application; request for public comment.

SUMMARY: We, the U.S. Fish and Wildlife Service, announce the availability of a draft environmental impact statement and draft environmental impact report (EIS/EIR), which evaluates the impacts of, and alternatives to, the proposed South Sacramento Habitat Conservation Plan (SSHCP). The SSHCP was submitted by six permit applicants in support of permit applications under the Endangered Species Act of 1973 as amended (ESA), for the incidental take of federally listed and other covered species resulting from the implementation or approval of future SSHCP covered activities, including urban development projects, within a 317,656-acre planning area. We request review and comment on the draft SSHCP and the draft EIS/EIR from local, State, and Federal agencies; Tribes; and the public.

DATES: Submitting Comments: To ensure consideration, we must receive written comments by 5 p.m. on August 31, 2017. Meeting Dates: See Meetings under SUPPLEMENTARY INFORMATION for public meeting dates.

ADDRESSES: You may obtain documents by one of the following methods:

• Internet: You may obtain electronic copies of the draft EIS/EIR and proposed HCP document on the SSHCP Web site at http://www.southsachcp.com, or on the Sacramento County Project Viewer Web site at https://planningdocuments.saccounty.net/ViewProjectDetails.aspx?ControlNum=2003-0637.

• U.S. Mail: CD-ROMs of the draft EIR/EIS and the draft SSHCP are available, by request, from the County Environmental Coordinator, at the County of Sacramento, Office of Planning and Environmental Review, 827 7th Street, Room 225, Sacramento, CA 95814; or by email at SSHCP@saccounty.net; or by phone at (916) 874-6141. Please note that your request is in reference to the SSHCP.

• In-Person: Copies of the draft EIR/EIS and the draft SSHCP documents are also available for public inspection and review at the following locations, during normal business hours:

○ Sacramento Fish and Wildlife Office, 2800 Cottage Way, Room W-2605, Sacramento CA 95825.

○ County of Sacramento, 827 7th Street, Room 225, Sacramento, CA 95814.

○ Sacramento Public Library, Central Library, 828 I Street, Sacramento, CA 95814.

You may submit written comments by one of the following methods:

• Electronically: Submit via email to: SSHCP@saccounty.net, and include “SSHCP” in the subject line,

• By hard copy: (1) Submit by U.S. mail to: County Environmental Coordinator, at the County of Sacramento address above, or call (916) 874-6141 to make an appointment during regular business hours to drop off written comments at that location; or (2) submit by U.S. mail to Jan C. Knight, Deputy Field Supervisor, at the Sacramento Fish and Wildlife Office address above, or by facsimile to (916) 414-6714, or call (916) 414-6700 to make an appointment during regular business hours to drop off written comments at that location.

Meeting addresses: See Meetings below under SUPPLEMENTARY INFORMATION for locations and addresses of public meetings.

FOR FURTHER INFORMATION CONTACT: (1) Contact Nina Bicknese, Endangered Species Division, or Jan C. Knight, Deputy Field Supervisor, at the Sacramento Fish and Wildlife Office address shown above, or at (916) 414-6700 (telephone) for information on the SSHCP EIS/EIR. If you use a telecommunications device for the deaf, please call the Federal Relay Service at (800) 877-8339, or (2) County Environmental Coordinator, or Marianne Biner, Senior Planner, at the County of Sacramento address shown above, or at (916) 874-6141 for information on the draft SSHCP EIS/EIR; or (3) Richard Radmacher, Senior Planner, at the County of Sacramento address shown above, or at (916) 874-5369 for information on the draft SSHCP and associated documents.

SUPPLEMENTARY INFORMATION: We, the U.S. Fish and Wildlife Service (Service), announce the availability of the draft SSHCP in compliance with section 10(c) of the Endangered Species Act of 1973 (16 U.S.C. 1531-1544; ESA), and we announce the availability of the draft environmental impact statement and environmental impact report (SSHCP EIS/EIR), prepared pursuant to the National Environmental Policy Act of 1970 as amended (42 U.S.C. 4321 et seq.; NEPA) and its implementing regulations (40 CFR 1500-1508), and also prepared pursuant to the California Environmental Quality Act (CEQA) as further described in the draft SSHCP EIS/EIR. We have prepared a joint EIS/EIR due to the combined local, State, and Federal discretionary actions and permits associated with the SSHCP. The co-lead agencies for the SSHCP EIS/EIR are Sacramento County, pursuant to CEQA, and the Service, pursuant to NEPA. The cooperating agencies are the U.S. Army Corps of Engineers, the U.S. Environmental Protection Agency, and the California Department of Fish and Wildlife. With this notice, we continue the HCP process, which started through a notice in the Federal Register on November 4, 2013 (78 FR 66058), in which we announced the intent to prepare a NEPA document for the draft SSHCP.

Background

Section 9 of the ESA prohibits the “take” of fish and wildlife species that are federally listed as endangered under section 4 of the ESA (16 U.S.C. 1533, 1538). The ESA implementing regulations extend, under certain circumstances, the prohibition of take to threatened species (50 CFR 17.31). Regulations governing permits for endangered and threatened species are at 50 CFR 17.22 and 17.32. For more about the Federal HCP program, go to http://www.fws.gov/endangered/esa-library/pdf/hcp.pdf.

The purpose of issuing an ITP to the five permit applicants would be to permit incidental take of 28 covered species resulting from planned urban development and associated transportation and infrastructure projects that would be permitted or authorized by the County of Sacramento, City of Galt, City of Rancho Cordova, the Sacramento County Water Agency, and the Capital SouthEast Connector Joint Powers Authority (together, the permit applicants). The approval of the draft SSHCP and issuance of the ITP is conditioned on the draft SSHCP meeting the criteria in section 10(a)(2)(B) of the ESA. The draft SSHCP is a regional, multi-agency strategy to assure permanent conservation of the 28 covered species and their habitats within the planning area, while providing future urban development and infrastructure covered activities with a more streamlined and more predictable Federal and State authorization and permitting process. The draft SSHCP covered activities incorporate measures that are intended to minimize and mitigate the impacts of the taking to the maximum extent practicable. The covered species include the federally endangered vernal pool tadpole shrimp (Lepidurus packardi), threatened vernal pool fairy shrimp (Branchinecta lynchi), threatened Valley elderberry longhorn beetle (Desmocerus californicus dimorphus), threatened California tiger salamander (Ambystoma californiense), and threatened giant garter snake (Thamnophis gigas), as well as 23 unlisted species that have the potential to become listed during the proposed permit term. The draft SSHCP also proposes to provide a comprehensive approach to the protection and long-term management of the relatively undisturbed vernal pool ecosystem remaining in the 317,656-acre Planning Area.

Alternatives

The EIR/EIS studies three alternatives in detail. Other reasonable alternatives were considered during the process of developing the HCP and the EIS/EIR, but others were not evaluated in detail because they did not meet the underlying needs or the purposes and objectives of the lead-agencies, as discussed in the EIS/EIR. The three alternatives are:

No Action Alternative: No ESA section 10(a)(1)(B) permit would be issued to the five permit applicants. Instead, future urban development projects and activities with potential to impact federally listed species would continue to obtain individual ESA authorizations on a project-by-project basis through section 7 consultations, if a Federal nexus exists, or through an individual ITP under section 10 of the ESA. Under the No Action Alternative, there would be no regional or comprehensive means to coordinate and standardize mitigation provided by multiple projects implemented over many years, or to provide comprehensive management of new mitigation lands in south Sacramento County.

Proposed Action Alternative: This alternative is issuance of an ITP by the Service to the five permit applicants, with a permit term of 50 years. The ITP would authorize take from covered activities on non-Federal lands in the planning area. Covered activities include planned land uses described in general plans of Sacramento County, the City of Rancho Cordova, and City of Galt, including residential, commercial, and industrial development, and specific transportation, irrigation water, and wastewater projects. Current in-stream maintenance activities will also continue as a covered activity. Each category of proposed covered activities includes measures to avoid or minimize incidental take of the covered species, including project design modifications. Approximately 33,639 acres of natural land covers and species habitat would be directly and indirectly impacted over the permit term. The proposed conservation strategy includes the establishment of a 36,282-acre interconnected regional preserve system that would be comprised of relatively large, contiguous blocks of natural land covers with species-habitat. All lands in the 36,282-acre preserve system would be permanently preserved, monitored, and managed in perpetuity. In addition, the proposed conservation strategy includes approximately 1,787 acres of aquatic resources that would be re-established or established within this preserve system. All preserves will have endowments to cover long-term management needs. A preserve system management, monitoring, and reporting plan would assess the draft SSHCP's progress toward achievement of each biological goal and objective, and ensure that habitat conservation keeps pace with impacts.

Reduced Permit Term Alternative. As with the proposed action, the Service would issue an ITP to the five permit applicants. However, the ITP would have a permit term of 30 years, which would more closely coincide with the durations of the approved general plans and other planning documents of the permit applicants. The categories of covered activities for the reduced permit term alternative would be the same as described for the proposed action, and approximately 19,371 acres natural land covers and species-habitat would be directly and indirectly impacted by the covered activities. The biological goals for the planning area would be the same as those identified for the proposed action/proposed project. The preserve system would have less connectivity and would be smaller, totaling approximately 20,044 acres. Approximately 1,723 acres of aquatic resources would be re-established or established. Similarly as with the proposed action alternative, a preserve system management, monitoring, and reporting plan would assess progress toward achievement of biological goals for a 30-year permit term.

Meetings: The meeting dates are:

1. June 21, 2017, 7 p.m. to 9 p.m., Wilton, CA.

2. June 26, 2017, 7 p.m. to 9 p.m., Rancho Cordova, CA.

3. July 6, 2017, 7 p.m. to 9 p.m., Galt, CA.

The meeting addresses are:

1. Wilton: Wilton Community Center, 9717 Colony Road, Wilton, CA 95693.

2. Rancho Cordova: Rancho Cordova City Hall, American River Room North, 2729 Prospect Park Drive, Rancho Cordova, CA 95670.

3. Galt: Littleton Community Center, 410 Civic Drive, Galt, CA 95632.

Request for Comments

Consistent with section 10(c) of the ESA, we invite the submission of written comments, data, views, or arguments with respect to the proposed incidental take permit application, the draft SSHCP, and the permitting decision. We particularly seek comments on the efficacy and effectiveness of the proposals contained in the draft SSHCP in producing the desired results for the covered species in this Planning Area, the sufficiency of the EIS/EIR in discussing possible impacts upon the environment, the ways in which adverse effects would be minimized, and alternatives to the proposed action.

Public Availability of Comments

Before including your address, phone number, email address, or other personal identifying information in your comment, you should be aware that the entire comment—including your personal identifying information—might be made publicly available at any time. While you can ask us in your comment to withhold your personal identifying information from public review, we cannot guarantee that we will be able to do so.

Next Steps

The lead agencies will accept public comments on the draft SSHCP and the draft SSHCP EIS/EIR during a public review and comment period, which ends 90 days after publication of this notice in the Federal Register. We will evaluate all public comments we receive on the draft HCP, the associated documents, and the draft EIS/EIR to determine whether the permit application and draft HCP meets requirements of ESA section 10(a), and draft EIS/EIR meets the requirements of the NEPA regulations. If the Service determines that those requirements are met, we will prepare a final SSHCP and EIS/EIR, which will be available for a 30-day minimum review period prior to the Service's final permit decision.

Authority

We provide this notice under section 10(c) of the ESA (16 U.S.C. 1531 et seq.) and its implementing regulations (50 CFR 17.22), and the National Environmental Policy Act (42 U.S.C. 4721 et seq.) and its implementing regulations (40 CFR 1506.6).

Michael Fris,
Assistant Regional Director, U.S. Fish and Wildlife Service Pacific Southwest Region, Sacramento, California.

[FR Doc. 2017-11293 Filed 6-1-17; 8:45 am]

BILLING CODE 4333-15-P